DEPARTMENT OF ENERGY

Federal Energy Regulatory Commission

Combined Notice of Filings #1

November 19, 2010.

Take notice that the Commission received the following electric rate filings:

Docket Numbers: ER06-1399-009.

Applicants: Sunbury Generation LP.

Description: Sunbury Generation LP submits supplement to its notice of non-material change in status pursuant to the Commission's regulation at 18 CFR, Section 35.42.

Filed Date: 11/18/2010.

Accession Number: 20101118-5136.

Comment Date: 5 p.m. Eastern Time on Thursday, December 09, 2010.

Docket Numbers: ER10-1556-001.

Applicants: Longview Power, LLC.

Description: Notice of Non-Material Change in Status of Longview Power, LLC.

Filed Date: 11/19/2010.

Accession Number: 20101119-5117.

Comment Date: 5 p.m. Eastern Time on Friday, December 10, 2010.

Docket Numbers: ER10-1602-002.

Applicants: Beech Ridge Energy LLC.

Description: Beech Ridge Energy LLC submits tariff filing per 35: Supplemental Category 1 Exemption Filing to be effective 10/30/2010.

Filed Date: 11/19/2010.

Accession Number: 20101119-5034.

Comment Date: 5 p.m. Eastern Time on Friday, December 10, 2010.

Docket Numbers: ER10-2256-000; ER10-2256-001.

Applicants: The Trustees of the University of Pennsylvania.

Description: McNees Wallace & Nurick LLC council to The Trustees of the University of PA, a PA Non-Profit Corp requests a shortened comments period of 14 days.

Filed Date: 11/17/2010.

Accession Number: 20101118-0002.

Comment Date: 5 p.m. Eastern Time on Wednesday, December 01, 2010.

Docket Numbers: ER10-2719-001; ER10-2570-001; ER10-2578-001; ER10-2633-001; ER10-2717-001; ER10-2718-001; ER10-3140-001.

Applicants: Cogen Technologies Linden Venture, L.P., Fox Energy Company LLC, Birchwood Power Partners, L.P., Shady Hills Power Company, L.L.C., East Coast Power Linden Holding, LLC, EFS Parlin Holdings, LLC, Inland Empire Energy Center, LLC.

Description: Notice of Non-Material Change in Status of East Coast Power Linden Holding, LLC, et. al.

Filed Date: 11/10/2010.

Accession Number: 20101110-5188.

Comment Date: 5 p.m. Eastern Time on Wednesday, December 01, 2010.

Docket Numbers: ER10-2897-001.

Applicants: Krayn Wind LLC.

Description: Krayn Wind LLC submits tariff filing per 35: Compliance Filing—Baseline eTariff to be effective 9/23/2010.

Filed Date: 11/19/2010.

Accession Number: 20101119-5064.

Comment Date: 5 p.m. Eastern Time on Friday, December 10, 2010.

Docket Numbers: ER10-3182-001.

Applicants: Clean Currents LLC.

Description: Clean Currents LLC submits tariff filing per 35: Clean Currents Baseline Filing to be effective 11/19/2010.

Filed Date: 11/19/2010.

Accession Number: 20101119-5019.

Comment Date: 5 p.m. Eastern Time on Friday, December 10, 2010.

Docket Numbers: ER10-3319-000.

Applicants: Astoria Energy II LLC.

Description: Astoria Energy II Files Letter Per Staff Under ER10-3319 (11-18-2010) with App. B and Privileged Supplement

Filed Date: 11/18/2010.

Accession Number: 20101118-5167.

Comment Date: 5 p.m. Eastern Time on Thursday, December 09, 2010.

Docket Numbers: ER11-2071-001.

Applicants: Southwest Power Pool, Inc.

Description: Southwest Power Pool, Inc. submits tariff filing per 35.17(b): Amendment to Changes to Pricing Zone Rates—OMPA to be effective 7/26/2010.

Filed Date: 11/19/2010.

Accession Number: 20101119-5021.

Comment Date: 5 p.m. Eastern Time on Friday, December 10, 2010.

Docket Numbers: ER11-2085-000.

Applicants: Calpine Corporation.

Description: Request for Limited Waiver of CAISO Tariff Appendix Y To Permit Full Recovery of Interconnection Financial Security of Calpine Corporation.

Filed Date: 11/10/2010.

Accession Number: 20101110-5186.

Comment Date: 5 p.m. Eastern Time on Wednesday, December 01, 2010.

Docket Numbers: ER11-2150-000.

Applicants: Northern Maine Independent System Administrator, Inc.

Description: Northern Maine Independent System Administrator, Inc. submits tariff filing per 35.1: Baseline Tariff Filing to be effective 9/30/2010.

Filed Date: 11/19/2010.

Accession Number: 20101119-5010.

Comment Date: 5 p.m. Eastern Time on Friday, December 10, 2010.

Docket Numbers: ER11-2151-000.

Applicants: Southern California Edison Company.

Description: Southern California Edison Company submits tariff filing per 35.13(a)(2)(iii): SGIA & Service Agmt with SS San Antonio West 1.5MW-Solar Project to be effective 11/22/2010.

Filed Date: 11/19/2010.

Accession Number: 20101119-5020.

Comment Date: 5 p.m. Eastern Time on Friday, December 10, 2010.

Docket Numbers: ER11-2152-000.

Applicants: ISO New England Inc., New England Power Pool Participants Comm.

Description: ISO New England Inc. submits tariff filing per 35.13(a)(2)(iii): Tariff Revisions to Reflect Change in Transmission Line Nomenclature to be effective 12/1/2010.

Filed Date: 11/19/2010.

Accession Number: 20101119-5061.

Comment Date: 5 p.m. Eastern Time on Friday, December 10, 2010.

Docket Numbers: ER11-2153-000.

Applicants: PacifiCorp.

Description: PacifiCorp submits tariff filing per 35.13(a)(2)(iii: BPA Cooperative Communications Agreement to be effective 10/1/2010.

Filed Date: 11/19/2010.

Accession Number: 20101119-5070.

Comment Date: 5 p.m. Eastern Time on Friday, December 10, 2010.

Docket Numbers: ER11-2154-000.

Applicants: Twin Eagle Resource Management, LLC.

Description: Twin Eagle Resource Management, LLC submits tariff filing per 35.12: Twin Eagle Resource Management, LLC MBR Tariff Application to be effective 1/1/2011.

Filed Date: 11/19/2010.

Accession Number: 20101119-5071.

Comment Date: 5 p.m. Eastern Time on Friday, December 10, 2010.

Docket Numbers: ER11-2155-000.

Applicants: Midwest Independent Transmission System Operator, Inc.

Description: Midwest Independent Transmission System Operator, Inc. submits tariff filing per 35.13(a)(2)(iii: C002 FCA Filing to be effective 11/20/2010.

Filed Date: 11/19/2010.

Accession Number: 20101119-5073.

Comment Date: 5 p.m. Eastern Time on Friday, December 10, 2010.

Docket Numbers: ER11-2156-000.

Applicants: Alabama Power Company.

Description: Alabama Power Company submits tariff filing per 35.13(a)(2)(i): MUN-1 Small Rate Increase Filing to be effective 1/1/2011.

Filed Date: 11/19/2010.

Accession Number: 20101119-5106.

Comment Date: 5 p.m. Eastern Time on Friday, December 10, 2010.

Docket Numbers: ER11-2157-000.

Applicants: EWO Marketing, Inc.

Description: EWO Marketing, Inc. submits tariff filing per 35.13(a)(2)(iii: EWOM Long-Term Boomerang Agreement to be effective 2/1/2012.

Filed Date: 11/19/2010.

Accession Number: 20101119-5143.

Comment Date: 5 p.m. Eastern Time on Friday, December 10, 2010.

Docket Numbers: ER11-2158-000.

Applicants: Entergy Power, LLC.

Description: Entergy Power, LLC submits tariff filing per 35.13(a)(2)(iii: EPI-EWO Ritchie Contract to be effective 2/1/2012.

Filed Date: 11/19/2010.

Accession Number: 20101119-5146.

Comment Date: 5 p.m. Eastern Time on Friday, December 10, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-30048 Filed 11-29-10; 8:45 am]

BILLING CODE 6717-01-P